DEPARTMENT OF HOUSING AND URBAN DEVELOPMENT

[Docket No. FR-5909-N-96]

30-Day Notice of Proposed Information Collection: Recordkeeping for HUD's Continuum of Care Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: January 23, 2017.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Anna P. Guido, Reports Management Officer, QMAC, Department of Housing and Urban Development, 451 7th Street SW., Washington, DC 20410; email Anna P. Guido at Anna .P. Guido@hud.gov or telephone 202-402-5535. This is not a toll-free number. Persons with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on September 26, 2016 at 81 FR 66073.

A. Overview of Information Collection

Title of Information Collection: Recordkeeping for HUD's Continuum of Care Program.

OMB Approval Number: 2506-0199.

Type of Request: Extension.

Form Number: None.

Description of the need for the information and proposed use: This submission is to request an extension of an Existing Collection in use with an OMB Control Number for the Recordkeeping for HUD's Continuum of Care Program. Continuum of Care program recipients will be expected to implement and retain the information collection for the recordkeeping requirements. The statutory provisions and implementing interim regulations govern the Continuum of Care Program recordkeeping requirements for recipient and subrecipients and the standard operating procedures for ensuring that Continuum of Care Program funds are used in accordance with the program requirements. To see the regulations for the new CoC program and applicable supplementary documents, visit HUD's Homeless Resource Exchange at https://www.onecpd.info/resource/2033/hearth-coc-program-interim-rule/.

Respondents (i.e. affected public): Continuum of Care program recipients and subrecipients.

Estimated Number of Respondents: The CoC record keeping requirements include 45 distinct activities. Each activity requires a different number of respondents ranging from 10 to 350,000. There are 366,500 unique respondents.

Estimated Number of Responses: 3,968,075.

Frequency of Response: Each activity has a unique frequency of response, ranging from once to 200 times annually.

Average Hours per Response: Each activity also has a unique associated number of hours of response, ranging from 15 minutes to 180 hours.

Total Estimated Burdens: The total number of hours needed for all reporting is 1,921,711 hours.

Exhibit A-1—Estimated Annual Burden Hours for Recordkeeping for HUD's Continuum of Care Program
Information collection | Number of respondents | Response frequency (average) | Total annual responses | Burden hours per response | Total annual hours | Hourly rate | Burden cost per instrument
A | B | C | D | E | F |  |
§ 578.5(a) Establishing the CoC | 450.00 | 1.00 | 450.00 | 8.00 | 3,600.00 | $37.13 | $133,668.00
§ 578.5(b) Establishing the Board | 450.00 | 1.00 | 450.00 | 5.00 | 2,250.00 | 37.13 | 83,542.50
§ 578.7(a)(1) Hold CoC Meetings | 450.00 | 2.00 | 900.00 | 4.00 | 3,600.00 | 37.13 | 133,668.00
§ 578.7(a)(2) Invitation for New Members | 450.00 | 1.00 | 450.00 | 1.00 | 450.00 | 37.13 | 16,708.50
§ 578.7(a)(4) Appoint committees | 450.00 | 2.00 | 900.00 | 0.50 | 450.00 | 37.13 | 16,708.50
§ 578.7(a)(5) Governance charter | 450.00 | 1.00 | 450.00 | 7.00 | 3,150.00 | 37.13 | 116,959.50
§ 578.7(a)(6) and (7) Monitor performance and evaluation | 450.00 | 1.00 | 450.00 | 9.00 | 4,050.00 | 37.13 | 150,376.50
§ 578.7(a)(8) Centralized or coordinated assessment system | 450.00 | 1.00 | 450.00 | 8.00 | 3,600.00 | 37.13 | 133,668.00
§ 578.7(a)(9) Written standards | 450.00 | 1.00 | 450.00 | 5.00 | 2,250.00 | 37.13 | 83,542.50
§ 578.7(b) Designate HMIS | 450.00 | 1.00 | 450.00 | 10.00 | 4,500.00 | 37.13 | 167,085.00
§ 578.9 Application for funds | 450.00 | 1.00 | 450.00 | 180.00 | 81,000.00 | 37.13 | 3,007,530.00
§ 578.11(c) Develop CoC plan | 450.00 | 1.00 | 450.00 | 9.00 | 4,050.00 | 37.13 | 150,376.50
§ 578.21(c) Satisfying conditions | 8,000.00 | 1.00 | 8,000.00 | 4.00 | 32,000.00 | 37.13 | 1,188,160.00
§ 578.23 Executing grant agreements | 8,000.00 | 1.00 | 8,000.00 | 1.00 | 8,000.00 | 37.13 | 297,040.00
§ 578.35(b) Appeal—solo | 10.00 | 1.00 | 10.00 | 4.00 | 40.00 | 37.13 | 1,485.20
§ 578.35(c) Appeal—denied or decreased funding | 15.00 | 1.00 | 15.00 | 1.00 | 15.00 | 37.13 | 556.95
§ 578.35(d) Appeal—competing CoC | 10.00 | 1.00 | 10.00 | 5.00 | 50.00 | 37.13 | 1,856.50
§ 578.35(e) Appeal—Consolidated Plan certification | 5.00 | 1.00 | 5.00 | 2.00 | 10.00 | 37.13 | 371.30
§ 578.49(a)—Leasing exceptions | 5.00 | 1.00 | 5.00 | 1.50 | 7.50 | 37.13 | 278.48
§ 578.65 HPC Standards | 20.00 | 1.00 | 20.00 | 10.00 | 200.00 | 37.13 | 7,426.00
§ 578.75(a)(1) State and local requirements—appropriate service provision | 7,000.00 | 1.00 | 7,000.00 | 0.50 | 3,500.00 | 37.13 | 129,955.00
§ 578.75(a)(1) State and local requirements—housing codes | 20.00 | 1.00 | 20.00 | 3.00 | 60.00 | 37.13 | 2,227.80
§ 578.75(b) Housing quality standards | 72,800.00 | 2.00 | 145,600.00 | 1.00 | 145,600.00 | 37.13 | 5,406,128.00
§ 578.75(b) Suitable dwelling size | 72,800.00 | 2.00 | 145,600.00 | 0.08 | 11,648.00 | 37.13 | 432,490.24
§ 578.75(c) Meals | 70,720.00 | 1.00 | 70,720.00 | 0.50 | 35,360.00 | 37.13 | 1,312,916.80
§ 578.75(e) Ongoing assessment of supportive services | 8,000.00 | 1.00 | 8,000.00 | 1.50 | 12,000.00 | 37.13 | 445,560.00
§ 578.75(f) Residential supervision | 6,600.00 | 3.00 | 19,800.00 | 0.75 | 14,850.00 | 37.13 | 551,380.50
§ 578.75(g) Participation of homeless individuals | 11,500.00 | 1.00 | 11,500.00 | 1.00 | 11,500.00 | 37.13 | 426,995.00
§ 578.75(h) Supportive service agreements | 3,000.00 | 100.00 | 300,000.00 | 0.50 | 150,000.00 | 37.13 | 5,569,500.00
§ 578.77(a) Signed leases/occupancy agreements | 104,000.00 | 2.00 | 208,000.00 | 1.00 | 208,000.00 | 37.13 | 7,723,040.00
§ 578.77(b) Calculating occupancy charges | 1,840.00 | 200.00 | 368,000.00 | 0.75 | 276,000.00 | 37.13 | 10,247,880.00
§ 578.77(c) Calculating rent | 2,000.00 | 200.00 | 400,000.00 | 0.75 | 300,000.00 | 37.13 | 11,139,000.00
§ 578.81(a) Use restriction | 20.00 | 1.00 | 20.00 | 0.50 | 10.00 | 37.13 | 371.30
§ 578.91(a) Termination of assistance | 400.00 | 1.00 | 400.00 | 4.00 | 1,600.00 | 37.13 | 59,408.00
§ 578.91(b) Due process for termination of assistance | 4,500.00 | 1.00 | 4,500.00 | 3.00 | 13,500.00 | 37.13 | 501,255.00
§ 578.95(d)—Conflict-of-Interest exceptions | 10.00 | 1.00 | 10.00 | 3.00 | 30.00 | 37.13 | 1,113.90
§ 578.103(a)(3) Documenting homelessness | 300,000.00 | 1.00 | 300,000.00 | 0.25 | 75,000.00 | 37.13 | 2,784,750.00
§ 578.103(a)(4) Documenting at risk of homelessness | 10,000.00 | 1.00 | 10,000.00 | 0.25 | 2,500.00 | 37.13 | 92,825.00
§ 578.103(a)(5) Documenting imminent threat of harm | 200.00 | 1.00 | 200.00 | 0.50 | 100.00 | 37.13 | 3,713.00
§ 578.103(a)(7) Documenting program participant records | 350,000.00 | 6.00 | 2,100,000.00 | 0.25 | 525,000.00 | 37.13 | 19,493,250.00
§ 578.103(a)(7) Documenting case management | 8,000.00 | 12.00 | 96,000.00 | 1.00 | 96,000.00 | 37.13 | 3,564,480.00
§ 578.103(a)(13) Documenting faith-based activities | 8,000.00 | 1.00 | 8,000.00 | 1.00 | 8,000.00 | 37.13 | 297,040.00
§ 578.103(b) Confidentiality procedures | 11,500.00 | 1.00 | 11,500.00 | 1.00 | 11,500.00 | 37.13 | 426,995.00
§ 578.105(a) Grant/project changes—UFAs | 20.00 | 2.00 | 40.00 | 2.00 | 80.00 | 37.13 | 2,970.40
§ 578.105(b) Grant/project changes—multiple project applicants | 800.00 | 1.00 | 800.00 | 2.00 | 1,600.00 | 37.13 | 59,408.00
Total | 1,075,195.00 |  | 4,238,075 |  | 2,056,710.50 |  | 76,365,660.87
Annualized Cost @$37.13/hr (GS-12): $76,365,660.87.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Dated: December 16, 2016.
Anna P. Guido,
Department Reports Management Officer, Office of the Chief Information Officer.

[FR Doc. 2016-30913 Filed 12-22-16; 8:45 am]

BILLING CODE 4210-67-P